DEPARTMENT OF HEALTH AND HUMAN SERVICES

National Institutes of Health

National Cancer Institute; Amended Notice of Meeting

Notice is hereby given of a change in the meeting of the National Cancer Institute Special Emphasis Panel, June 3, 2019, 6:00 p.m. to June 4, 2019, 6:00 p.m., Hilton Washington/Rockville Hotel, 1750 Rockville Pike, Rockville, MD 08852 which was published in the Federal Register on March 27, 2019, 84 FR 11548.

This meeting notice is amended to change the meeting start time on June 3, 2019 from 6:00 p.m. to 4:00 p.m. The meeting is closed to the public.

Dated: April 8, 2019.
Melanie J. Pantoja,
Program Analyst, Office of Federal Advisory Committee Policy.

[FR Doc. 2019-07249 Filed 4-11-19; 8:45 am]

BILLING CODE 4140-01-P